NATIONAL SCIENCE FOUNDATION

Oversight Council for the International Arctic Research Center; Notice of Meeting

In accordance with the Federal Advisory Committee Act (Pub. L. 92-463, as amended), the National Science Foundation announces the following meeting:

Name: Oversight Council for the International Arctic Research Center (9535).

Date/Time: June 5, 2006, 2 p.m. to 3 p.m.

Place: National Science Foundation, 4201 Wilson Boulevard, Room: 740, Arlington, VA 22230, with participation by teleconference.

Type of Meeting: Closed.

Contact Person: Dr. Neil Swanberg, Program Director, Arctic System Science Program, Room 740 S, National Science Foundation, 4201 Wilson Blvd., Arlington, VA 22230. (703) 292-8029.

Purpose of Meeting: To provide advice and recommendations concerning a cooperative agreement between the National Science Foundation and the International Arctic Research Center.

Agenda: To evaluate and provide advice on an annual research plan submitted to the Arctic Science Section as part of a continuing cooperative agreement for the support of the center.

Reason for Closing: The annual operating plan being reviewed includes information of a proprietary or confidential nature, including technical information; financial data, such as salaries; and personal information concerning individuals associated with the proposals. These matters are exempt under 5 U.S.C. 552(b)(c)(4) and (6) of the Government in the Sunshine Act.

Dated: May 16, 2006.
Susanne Bolton,
Committee Management Officer.

[FR Doc. 06-4700 Filed 5-19-06; 8:45 am]

BILLING CODE 7555-01-M